DEPARTMENT OF THE INTERIOR

Office of the Secretary

Wildland Fire Executive Council Meeting Schedule

AGENCY: Office of the Secretary, Interior.

ACTION: Notice of meetings.

SUMMARY: In accordance with the requirements of the Federal Advisory Committee Act, 5 U.S.C. App. 2, the U.S. Department of the Interior, Office of the Secretary, Wildland Fire Executive Council (WFEC) will meet as indicated below.

DATES: The meetings will be held on the first and third Friday of each month from 10 a.m. to 12 noon Eastern Time as follows: June 3, 2011; June 17, 2011; July 1, 2011; July 15, 2011; August 5, 2011; August 19, 2011; September 2, 2011; September 16, 2011; October 7, 2011; October 21, 2011; November 4, 2011; November 18, 2011; December 2, 2011; December 16, 2011.

ADDRESSES: The meetings will be held from 10 a.m. to 12 noon Eastern Time in the McArdle Room (First Floor Conference Room) in the Yates Federal Building, USDA Forest Service Headquarters, 1400 Independence Ave., SW., Washington, DC 20250.

FOR FURTHER INFORMATION CONTACT: Roy Johnson, Designated Federal Officer, 300 E Mallard Drive, Suite 170, Boise, Idaho 83706; telephone (208) 334-1550; fax (208) 334-1549; or e-mail Roy_Johnson@ios.doi.gov.

SUPPLEMENTARY INFORMATION: The WFEC is established as a discretionary advisory committee under the authorities of the Secretary of the Interior and Secretary of Agriculture, in furtherance of 43 U.S.C. 1457 and provisions of the Fish and Wildlife Act of 1956 (16 U.S.C. 742a-742j), the Federal Land Policy and Management Act of 1976 (43 U.S.C. 1701 et seq.), the National Wildlife Refuge System Improvement Act of 1997 (16 U.S.C. 668dd-668ee), and the National Forest Management Act of 1976 (16 U.S.C. 1600 et seq.) and in accordance with the provisions of the Federal Advisory Committee Act, as amended, 5 U.S.C. App. 2. The Secretary of the Interior and Secretary of Agriculture certify that the formation of the WFEC is necessary and is in the public interest.

The purpose of the WFEC is to provide advice on coordinated national-level wildland fire policy and to provide leadership, direction, and program oversight in support of the Wildland Fire Leadership Council. Questions related to the WFEC should be directed to Roy Johnson (Designated Federal Officer) at Roy_Johnson@ios.doi.gov or (208) 334-1550 or 300 E. Mallard Drive, Suite 170, Boise, Idaho 83706-6648.

Meeting Agenda: The meeting agenda will include: (1) Welcome and introduction of Council members; (2) Overview of prior meeting and action tracking; (3) Members' round robin to share information and identify key issues to be addressed; (4) Wildland Fire Management Cohesive Strategy; (5) Wildland Fire Issues; (6) Council Members' review and discussion of sub-committee activities; (7) Future Council activities; (8) Public comments; and (9) closing remarks. Participation is open to the public.

Public Input: All WFEC meetings are open to the public. Members of the public who wish to participate must notify Shari Shetler at Shari_Shetler@ios.doi.gov no later than the Friday preceding the meeting. Those who are not committee members and wish to present oral statements or obtain information should contact Shari Shetler via e-mail no later than the Friday preceding the meeting. Depending on the number of persons wishing to comment and time available, the time for individual oral comments may be limited.

Questions about the agenda or written comments may be e-mailed or submitted by U.S. Mail to: Department of the Interior, Office of the Secretary, Office of Wildland Fire, Attention: Shari Shetler, 300 E. Mallard Drive, Suite 170, Boise, Idaho 83706-6648. WFEC requests that written comments be received by the Friday preceding the scheduled meeting. Attendance is open to the public, but limited space is available. Persons with a disability requiring special services, such as an interpreter for the hearing impaired, should contact Ms. Shetler at (202) 527-0133 at least seven calendar days prior to the meeting.

Dated: May 11, 2011.
Roy Johnson,
Designated Federal Officer.

[FR Doc. 2011-12097 Filed 5-16-11; 8:45 am]

BILLING CODE 4310-J4-P